DEPARTMENT OF HOMELAND SECURITY

Transportation Security Administration

Extension of Agency Information Collection Activity Under OMB Review: Employment Standards

AGENCY: Transportation Security Administration, DHS.

ACTION: 30-day Notice.

SUMMARY: This notice announces that the Transportation Security Administration (TSA) has forwarded the Information Collection Request (ICR), Office of Management and Budget (OMB) control number 1652-0006, abstracted below to OMB for review and approval of an extension of the currently approved collection under the Paperwork Reduction Act (PRA). The ICR describes the nature of the information collection and its expected burden. TSA published a Federal Register notice, with a 60-day comment period soliciting comments, of the following collection of information on August 10, 2011, 76 FR 49503. The collection involves the requirement for airport and aircraft operators to maintain records of compliance with certain provisions of 49 CFR parts 1542 and 1544 related to employment standards. The collection also requires airport operators to comply with a security directive by maintaining records for those employees with unescorted access privileges to secured areas, security identification display areas, sterile areas, and air operations areas of the airport.

DATES: Send your comments by November 23, 2011. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; e-mail TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Employment Standards.

Type of Request: Extension of a currently approved collection.

OMB Control Number: 1652-0006.

Forms(s): NA.

Affected Public: Airport operators regulated under 49 CFR part 1542 and aircraft operators regulated under 49 CFR part 1544.

Abstract: The purpose of this information collection is to maintain certain records relating to employment standards needed to determine compliance with certain provisions of 49 CFR parts 1542 and 1544. TSA requires that airport operators maintain records of criminal history records checks and security threat assessments in compliance with 49 CFR part 1542 and a related security directive for those employees with unescorted access privileges to secured areas, security identification display areas, sterile areas, and air operations areas of the airport. TSA also requires that aircraft operators maintain records of compliance with 49 CFR part 1544 for selected flight crew and security employees. TSA Transportation Security Inspectors (TSIs) review these records to ensure that the safety and security of the public is not compromised, to include using this information to take corrective action when necessary. These regulations establish procedures that airport and aircraft operators must carry out to protect persons and property against acts of criminal violence, aircraft piracy, and terrorist activities.

Number of Respondents: 1,337.

Estimated Annual Burden Hours: An estimated 35,898 hours annually.

Issued in Arlington, Virginia, on October 18, 2011.
Joanna Johnson,
TSA Paperwork Reduction Act Officer, Office of Information Technology.

[FR Doc. 2011-27463 Filed 10-21-11; 8:45 am]

BILLING CODE 9110-05-P